Memorandum of October 21, 2004

Delegation of Certain Functions Related to the Sudan Peace Act

Memorandum for the Secretary of State

By virtue of the authority vested in me as President by the Constitution and the laws of the United States, including section 301 of title 3, United States Code, I hereby delegate to you the determination, certification, and reporting functions conferred upon the President by sections 6(b)(1) and 6(c) of the Sudan Peace Act (Public Law 107-245).

You are authorized and directed to publish this memorandum in the Federal Register.

B

THE WHITE HOUSE,

Washington, October 21, 2004.

[FR Doc. 04-24302

Filed 10-27-04; 9:31 am]

Billing code 4710-10-P